ENVIRONMENTAL PROTECTION AGENCY

[EPA-HQ-OW-2024-0481; FRL 11244-01-OW]

National Pollutant Discharge Elimination System (NPDES) 2026 Issuance of the Multi-Sector General Permit for Stormwater Discharges Associated With Industrial Activity

AGENCY: Environmental Protection Agency (EPA).

ACTION: Notice; request for public comment.

SUMMARY: All 10 Environmental Protection Agency (EPA) Regions are proposing for public comment the 2026 National Pollutant Discharge Elimination System (NPDES) general permit for stormwater discharges associated with industrial activity, also referred to as the “2026 Multi-Sector General Permit (MSGP)” or the “proposed permit.” The proposed permit once finalized will replace the EPA's existing MSGP that expires on February 28, 2026. The EPA proposes to issue this permit for five (5) years. Once finalized, this permit will be available in areas where the EPA is the NPDES permitting authority. The EPA solicits comment on all aspects of the proposed general permit and seeks public comment on specific requests for information as described in of this document. The public is encouraged to read the proposed permit fact sheet to better understand the proposed permit requirements. The proposed permit and fact sheet can be found at https://www.epa.gov/npdes/stormwater-discharges-industrial-activities.

DATES: Comments must be received on or before February 11, 2025. Under the Paperwork Reduction Act, comments on the information collection provisions must be received by OMB on or before January 13, 2025.

ADDRESSES: You may send comments, identified by Docket ID No. EPA-HQ-OW-2024-0481, by any of the following methods:

• Federal eRulemaking Portal: https://www.regulations.gov/ (our preferred method). Follow the online instructions for submitting comments.

• Mail: U.S. Environmental Protection Agency, EPA Docket Center, Office of Water Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m.-4:30 p.m., Monday-Friday (except Federal holidays).

Instructions: All submissions received must include the Docket ID No. for this rulemaking. Comments received may be posted without change to https://www.regulations.gov/, including any personal information provided. For detailed instructions on sending comments and additional information on the rulemaking process, see the “Public Participation” heading of the SUPPLEMENTARY INFORMATION section of this document.

FOR FURTHER INFORMATION CONTACT: Contact the appropriate EPA Regional office listed in section I.D of this document, or contact Alicia Denning, EPA Headquarters, Office of Water, Office of Wastewater Management, Mail Code 4203M, 1200 Pennsylvania Avenue NW, Washington, DC 20460; telephone number: 202-564-0018; email address: denning.alicia@epa.gov. Electronic versions of the proposed permit and fact sheet are also available on EPA's NPDES website at https://www.epa.gov/npdes/stormwater-discharges-industrial-activities.

SUPPLEMENTARY INFORMATION:

This section is organized as follows:

Table of Contents

I. General Information

A. Does this Action Apply to Me?

B. Public Participation

C. Finalizing the 2026 MSGP

D. EPA Regional Contacts for the Proposed MSGP

II. Background

III. Scope and Applicability

A. Geographic Coverage

B. Activities Covered

C. Summary of Proposed Permit and Changes from the 2021 MSGP

D. Specific Requests for Comment

IV. Cost Impacts of the Proposed 2026 MSGP

V. Public Notice of Clean Water Act Section 401 Certification on Behalf of Tribes Without Treatment as a State Authority and for Lands of Exclusive Federal Jurisdiction

VI. Statutory and Executive Orders Reviews

A. Executive Order 12866: Regulatory Planning and Review and Executive Order 14094: Modernizing Regulatory Review

B. Paperwork Reduction Act (PRA)

C. Executive Order 12898: Federal Actions to Address Environmental Justice in Minority Populations and Low-Income Populations and Executive Order 14096: Revitalizing Our Nation's Commitment to Environmental Justice for All

D. Executive Order 13175: Consultation and Coordination with Indian Tribal Governments

I. General Information

A. Does this action apply to me?

The proposed permit covers stormwater discharges from industrial facilities in the 30 sectors shown below:

Sector A—Timber Products.

Sector B—Paper and Allied Products Manufacturing.

Sector C—Chemical and Allied Products Manufacturing.

Sector D—Asphalt Paving and Roofing Materials Manufactures and Lubricant Manufacturers.

Sector E—Glass, Clay, Cement, Concrete, and Gypsum Product Manufacturing.

Sector F—Primary Metals.

Sector G—Metal Mining (Ore Mining and Dressing).

Sector H—Coal Mines and Coal Mining-Related Facilities.

Sector I—Oil and Gas Extraction.

Sector J—Mineral Mining and Dressing.

Sector K—Hazardous Waste Treatment Storage or Disposal.

Sector L—Landfills and Land Application Sites.

Sector M—Automobile Salvage Yards.

Sector N—Scrap Recycling Facilities.

Sector O—Steam Electric Generating Facilities.

Sector P—Land Transportation.

Sector Q—Water Transportation.

Sector R—Ship and Boat Building or Repairing Yards.

Sector S—Air Transportation Facilities.

Sector T—Treatment Works.

Sector U—Food and Kindred Products.

Sector V—Textile Mills, Apparel, and other Fabric Products Manufacturing.

Sector W—Furniture and Fixtures.

Sector X—Printing and Publishing.

Sector Y—Rubber, Miscellaneous Plastic Products, and Miscellaneous Manufacturing Industries.

Sector Z—Leather Tanning and Finishing.

Sector AA—Fabricated Metal Products.

Sector AB—Transportation Equipment, Industrial or Commercial Machinery.

Sector AC—Electronic, Electrical, Photographic and Optical Goods.

Sector AD—Reserved for Facilities Not Covered Under Other Sectors and Designated by the Director.

Coverage under the proposed 2026 MSGP is available to operators of eligible facilities located in areas where the EPA is the permitting authority. A list of eligible areas is included in Appendix C of the proposed 2026 MSGP.

B. Public Participation

1. Written Comments

Submit your comments, identified by Docket ID No. EPA-HQ-OW-2024-0481, at https://www.regulations.gov (our preferred method), or the other methods identified in the ADDRESSES section. Once submitted, comments cannot be edited or removed from the docket. The EPA may publish any comment received to its public docket. Do not submit to the EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

2. Will public hearings be held on this action?

The EPA has not scheduled any public hearings to receive public comment concerning the proposed permit. All persons will continue to have the right to provide written comments during the public comment period. However, interested persons may request a public hearing pursuant to 40 CFR 124.12 concerning the proposed permit. Requests for public hearing must be sent or delivered in writing to the same address as provided above for public comments prior to the close of the comment period and must state the nature of the issue the requester would like raised in the hearing. Pursuant to 40 CFR 124.12, the EPA shall hold a public hearing if it finds, on the basis of requests, a significant degree of public interest in a public hearing on the proposed permit. If the EPA decides to hold a public hearing, a public notice of date, time, and place of the hearing will be made at least 30 days prior to the hearing. Any person may provide written or oral statements and data pertaining to the proposed permit at the public hearing. The EPA will host two public informational webinars on the proposed permit. Details of the dates of those webinars and how to attend will be posted on EPA's NPDES website at https://www.epa.gov/npdes/stormwater-discharges-industrial-activities.

C. Finalizing the 2026 MSGP

The final 2026 MSGP will be issued after all public comments received during the public comment period have been considered and any appropriate changes are made to the proposed permit. The EPA will include its response to significant comments received in the docket as part of the final permit decision. Once the final 2026 MSGP becomes effective, eligible operators of industrial facilities may seek authorization as outlined in the permit.

D. EPA Regional Contacts for the Proposed MSGP

For EPA Region 1, contact Abdulrahman Ragab at tel.: (617) 918-1586; or email at Ragab.abdulrahman@epa.gov.

For EPA Region 2 (New York and New Jersey), contact Sieglinde Pylypchuk at tel.: (212)-637-4133; or email at Pylypchuk.Sieglinde@epa.gov.

For EPA Region 2 (Carribean), contact Sergio Bosques at tel: (787) 977-5828; or email at Bosques.Sergio@epa.gov.

For EPA Region 3, contact Shana Stephens at tel.: (215) 814-2771; or email at stephens.shana@epa.gov.

For EPA Region 4, contact Mike Mitchell at tel.: (404) 562-9303; or email atMitchell.Michael@epa.gov.

For EPA Region 5, contact Krista McKim at tel.: (312) 353-8270; or email at mckim.krista@epa.gov.

For EPA Region 6, contact Nasim Jahan at tel.: (214)-665-7522; or email atJahan.Nasim@epa.gov.

For EPA Region 7, contact Mark Matthews at tel.: (913)-551-7635; or email atMatthews.Mark@epa.gov.

For EPA Region 8, contact Paul Garrison at tel.: (303)-312-6016; or email atgarrison.paul@epa.gov.

For EPA Region 9, contact Eugene Bromley at tel.: (415)-972-3510; or email at Bromley.Eugene@epa.gov.

For EPA Region 10, contact Jill Seale at tel.: (206) 553-1582; or email atSeale.Jill@epa.gov.

II. Background

Section 405 of the Water Quality Act of 1987 added section 402(p) of the Clean Water Act (CWA), which directed the EPA to develop a phased approach to regulate stormwater discharges under the NPDES program. The EPA published a final regulation on the first phase on this program on November 16, 1990, establishing permit application requirements for “stormwater discharges associated with industrial activity.” See 55 FR 48063. The EPA defined the term “stormwater discharge associated with industrial activity” in a comprehensive manner to cover a wide variety of facilities. See 40 CFR 122.26(b)(14). The EPA proposes to issue the MSGP under this statutory and regulatory authority.

Under CWA section 402(a)(5), 402(b), and 40 CFR part 123, the EPA can authorize states, Tribes, and territories to implement the NPDES program and issue permits for discharges in their jurisdictions. To date, 47 states and one territory (the U.S. Virgin Islands) have been either fully or partially authorized for NPDES program administration. Where states, Tribes, and territories have not received program authorization, the EPA remains the NPDES permitting authority and is responsible for direct implementation of the NPDES program in those jurisdictions. The EPA is the sole NPDES permitting authority in: Massachusetts, New Hampshire, and New Mexico; all Indian country except in Maine; the District of Columbia; Federal facilities in Colorado, Delaware, Vermont, and Washington; all territories except the U.S. Virgin Islands; and all Lands of Exclusive Federal Jurisdiction. The EPA issues several NPDES general permits that cover “all areas where the EPA is the permitting authority” that include the states, Indian country, and territories named above, unless otherwise specified in those permits. The proposed 2026 MSGP will also be issued and available to authorize eligible discharges in all areas where the EPA is the permitting authority, as described in Appendix C of the proposed permit.

III. Scope and Applicability

A. Geographic Coverage

The 2026 MSGP will cover stormwater discharges from industrial facilities in areas where the EPA is the NPDES permitting authority. The geographic coverage of this permit is listed in Appendix C of the proposed permit.

B. Activities Covered

This permit will authorize stormwater discharges from industrial facilities in 30 sectors, as shown in section I.A. of this document.

C. Summary of the Proposed Permit and Changes From the 2021 MSGP

Once effective, the final 2026 MSGP will replace the 2021 MSGP. The 2021 MSGP became effective on March 1, 2021 (86 FR 10269). Subsequently, EPA finalized a minor modification to the 2021 MSGP that became effective on September 29, 2021. The 2021 MSGP expires February 28, 2026, at midnight. The proposed permit is similar to the existing permit and is structured in nine (9) parts: general requirements that apply to all facilities (e.g., eligibility requirements, effluent limitations and other limitations, inspection and monitoring requirements, Stormwater Pollution Prevention Plan (SWPPP) requirements, and reporting and recordkeeping requirements) (Parts 1-7); industrial sector-specific conditions (Part 8); and State- and Tribal-specific requirements applicable to facilities located within individual states or Indian Country (Part 9). Additionally, the appendices provide proposed forms for the Notice of Intent (NOI), the Notice of Termination (NOT), the Conditional No Exposure Certification (NEC), the Discharge Monitoring Report (DMR), and the annual report, as well as step-by-step procedures for determining eligibility with respect to protecting historic properties and endangered species, and for calculating site-specific, hardness-dependent benchmarks.

The proposed 2026 MSGP includes a number of new or modified requirements compared to the 2021 MSGP. The following list summarizes the more significant proposed changes to the MSGP. The EPA requests comment on these modifications and all parts of the proposed permit.

1. Designing Stormwater Control Measures for Resiliency. The EPA is proposing a revision to the considerations that were in the 2021 MSGP to ensure operators consider best available data when designing stormwater control measures to withstand future weather conditions. See Part 2.1.1.8 of the proposed permit.

2. Water Quality-Based Effluent Limitations or Other Limitations. The EPA is proposing a revision to the water quality-based effluent limitations and other limitations. The revised provision specifies that discharges must not contain or result in observable deposits of floating solids, scum, sheen, or substances; an observable film or sheen upon or discoloration from oil and grease; or foam or substances that produce an observable change in color. See Part 2.2 of the proposed permit.

3. Monitoring Changes.

• Indicator Monitoring for Per- and Polyfluoroalkyl Substances (PFAS). The EPA is proposing a new provision in the 2026 MSGP that requires sectors A, B, C, D, F, I, K, L, M, N, P, R, S, T, U, V, W, X, Y, Z, AA, AB, and AC to conduct quarterly “report-only” indicator analytical monitoring for PFAS. See Part 4.2.1.1.c of the proposed permit.

• Updating Monitoring Requirements for Certain Sectors. The EPA is proposing a shift from report-only indicator monitoring to benchmark monitoring for certain sectors. EPA evaluated indicator monitoring results for pH, total suspended solids, and chemical oxygen demand from the 2021 MSGP permit term and compared them to 2021 benchmark thresholds for those parameters. EPA is proposing to shift the monitoring requirements from indicator to benchmark monitoring for those sectors with a significant number of data points that would have exceeded the 2021 benchmark threshold. Benchmark monitoring parameters are proposed based on indicator monitoring results collected under the 2021 MSGP, along with industry analysis of common activities and materials which expose pollutants to stormwater. Depending on the sector, specific benchmark monitoring parameters may include pH, total suspended solids, chemical oxygen demand, ammonia, nitrate, nitrite, and metals. See Part 4.2.2 of the proposed permit and fact sheet.

• Updating the Benchmark Monitoring Schedule. The EPA is proposing a modified benchmark monitoring schedule in the 2026 MSGP. Operators will be required to conduct quarterly benchmark monitoring in their first three years of permit coverage or until twelve quarters of monitoring data are collected. See Part 4.2.2.2 of the proposed permit.

• Impaired Waters Monitoring. The EPA is proposing a change to the structure and schedule of impaired waters monitoring in the 2026 MSGP. Operators discharging to impaired waters must complete quarterly monitoring for all pollutants for which the waterbody is impaired. If a pollutant is detected, the operator must do corrective action. See Part 4.2.5.1 of the proposed permit.

4. Additional Implementation Measures (AIM).

• Updates to Corrective Action. The EPA is proposing that facilities must conduct an inspection to identify the cause of a benchmark exceedance when AIM level 1 is triggered in the 2026 MSGP. See Part 5.2 of the proposed permit.

• Natural Background Exception. The EPA is proposing a requirement for operators to provide analytical results of stormwater runoff from natural background and to get EPA approval to claim a natural background exception in the 2026 MSGP. Until the operator receives approval from the EPA, they must continue monitoring. See Part 5.2 of the proposed permit.

• Reporting. The EPA is proposing that operators must submit an AIM Triggering Event Report to the EPA in response to triggering AIM at any level. This requirement ensures that operators investigate and document the cause of the AIM triggering event and design corrective action to reduce pollutant loads. See Part 5.2 of the proposed permit.

D. Specific Requests for Comment

While the EPA encourages the public to review and comment on all provisions in the proposed 2026 MSGP, the EPA has included in the body of the proposed permit several proposed provisions on which the EPA specifically requests feedback. The following list summarizes these specific requests for comment and where they are included in the permit. The EPA notes that these are only summaries of the requests for comment and recommends that the public see the specific wording of each comment request within the body of the permit.

• Request for comment on the possible discharge of 6PPD-quinone in stormwater. The EPA is interested in learning more about how to identify likely sources of 6PPD-quinone in stormwater discharges, what controls may be effective in minimizing the discharge of this contaminant from regulated facilities, and what monitoring requirements may be appropriate for potential sources.

• Request for comment on requiring PFAS indicator monitoring using Method 1621, Determination of Adsorbable Organic Fluorine (AOF) in Aqueous Matrices by Combustion Ion Chromatography (CIC), in addition to Method 1633.

• Request for comment on whether EPA should include benchmark monitoring for iron and magnesium and for any information related to acute effects or effects from intermittent exposure to iron or magnesium on aquatic organisms.

• Request for comment on whether benchmark monitoring for certain parameters is appropriate for specific subsectors: L2: Manganese; N2: Cobalt, Manganese, arsenic, and silver; O1: Barium, beryllium, cadmium, cobalt, selenium, lead, magnesium, manganese, mercury, silver, and thallium; P1: Aluminum, manganese, and nickel; AB1: Antimony, arsenic, barium, cobalt, manganese, silver, vanadium. See Part 8 of the proposed permit.

• Request for comment on whether PFAS-related benchmark monitoring should be applied to some, or all, of the sectors identified for PFAS-indicator monitoring. EPA recently published aquatic life criteria for PFOA and PFOS, as well as Clean Water Act Aquatic Life Benchmarks for PFAS (89 FR 81077) that could be considered as benchmark monitoring threshold(s).

• Request for comment on the proposed approach in Part 4.2.5.1 that requires impaired waters monitoring throughout the entire permit term. EPA is also interested in alternative approaches for monitoring impaired waters.

IV. Cost Impacts of the Proposed 2026 MSGP

The EPA estimates anticipates the incremental cost for new or modified permit requirements will be, on average, and annual cost of approximately $4,670 per facility; or $9.84 million nationwide. A copy of the EPA's cost analysis for the proposed permit, titled “Cost Impact Analysis for the Proposed 2026 MSGP,” is available in the docket (Docket ID No. EPA-HQ-OW-2024-0481). The economic impact analysis indicates that while there will be an incremental increase in the costs of complying with the new proposed permit, these costs will not have a significant economic impact on a substantial number of small entities.

Historically, the EPA has developed a cost analysis as a part of the administrative record in support of the MSGP issuance. The Agency analyzed changes in the proposed permit, evaluating the incremental cost implications of the final permit as compared to the previous permit issuance. The objective of this cost analysis was to show where or to what extent the newly proposed permit requirements imposed incremental changes in costs on permittees in relation to the previous permit issuance.

Developing a cost analysis for a general permit that covers a wide variety of activities across 30 industrial sectors in a range of geographic locations poses unique challenges. Additional variables such as facility and operations size, existing control measures, and variable labor and material expenses also have the potential to impact the overall analyses significantly. These factors as well as the nature of the permit itself can create challenges in developing the appropriate individualized assumptions for each operator that may be covered under the permit. The EPA issues general permits before receiving NOIs from operators seeking coverage. This permitting structure precludes the EPA from knowing exactly where and what type of operators will be covered ahead of permit issuance, further complicating cost estimations.

V. Public Notice of Clean Water Act Section 401 Certification on Behalf of Tribes Without Treatment as a State Authority and for Lands of Exclusive Federal Jurisdiction

The EPA acts as the certifying authority in areas of Indian Country on behalf of those Tribes that have not received treatment in a similar manner as a state (TAS) for the purposes of Clean Water Act section 401 certification. The EPA also acts as a certifying authority for section 401 on Lands of Exclusive Federal Jurisdiction. The EPA is today providing notice under 40 CFR 121.17(a) that EPA's Regions are requesting certification as of the date of signature of this notice for the proposed 2026 MSGP for non-TAS Tribes and Lands of Exclusive Federal Jurisdiction. Consistent with the EPA's policy on Tribal consultation and coordination, the EPA will coordinate and work with non-TAS Tribes to provide an opportunity for their input on the agency's certification of the 2026 MSGP, and specifically on any water quality requirements that should be considered. The EPA will act on the non-TAS and LEFJ certification requests by either: (1) granting certification; (2) granting certification with conditions; (3) denying certification; or (4) expressly waiving certification consistent with CWA section 401 and the EPA's implementing regulations at 40 CFR part 121.

VI. Statutory and Executive Orders Reviews

A. Executive Order 12866: Regulatory Planning and Review and Executive Order 14094: Modernizing Regulatory Review

This action is not a significant regulatory action as defined in Executive Order 12866, as amended by Executive Order 14094, and was therefore not subject to a requirement for Executive Order 12866 review.

B. Paperwork Reduction Act (PRA)

The information collection activities in this proposed permit have been submitted for approval to the Office of Management and Budget (OMB) under the PRA. The Information Collection Request (ICR) document that the EPA prepared has been assigned EPA ICR No. 7801.01, OMB Control No. 2040-NEW. You can find a copy of the ICR in the docket for this permit (Docket ID No. EPA-HQ-OW-2024-0481), and it is briefly summarized here. CWA section 402 and the NPDES regulations require collection of information primarily used by permitting authorities, permittees (operators), and the EPA to make NPDES permitting decisions. The burden and costs associated with the entire NPDES program are accounted for in an approved ICR (EPA ICR Reference No: 202201-2040-004 OMB Control No: 2040-0004), which includes the burden and costs associated with the requirements of the 2021 MSGP. Certain provisions in the proposed permit would require revisions to the ICR to reflect new forms and other changes to the information collection requirements. The EPA is reflecting the changes in paperwork burden and costs that would be associated with the proposed permit changes in a separate ICR instead of revising the existing ICR for the entire program for administrative reasons.

Respondents/affected entities: Industrial facilities in the 30 sectors shown in section I.A of this document in areas where EPA is the NPDES permitting authority.

Respondent's obligation to respond: Compliance with the MSGP's information collection and reporting requirements is mandatory for MSGP operators.

Estimated number of respondents: The EPA estimates that approximately 2,100 operators will receive coverage under the 2026 MSGP.

Frequency of response: Response frequencies in the proposed 2026 MSGP vary from once per permit term to quarterly.

Total estimated burden: The EPA estimates that the information collection burden of the proposed permit is 22,543 hours (per year). Burden is defined at 5 CFR 1320.3(b).

Total estimated cost: The EPA estimates that the proposed information collection cost of the proposed permit is $1.0M per year.

An agency may not conduct or sponsor, and a person is not required to respond to, a collection of information unless it displays a currently valid OMB control number. The OMB control numbers for the EPA's regulations in 40 CFR are listed in 40 CFR part 9.

Submit your comments on the EPA's need for this information, the accuracy of the provided burden estimates, and any suggested methods for minimizing respondent burden to the EPA using the docket identified at the beginning of this document. The EPA will respond to any ICR-related comments in the response to comments document on the final permit. You may also send your ICR-related comments to OMB's Office of Information and Regulatory Affairs using the interface at https://www.reginfo.gov/public/do/PRAMain. Find this particular information collection by selecting “Currently under Review—Open for Public Comments” or by using the search function. OMB must receive comments no later than January 13, 2025.

C. Executive Order 12898: Federal Actions To Address Environmental Justice in Minority Populations and Low-Income Populations and Executive Order 14096: Revitalizing Our Nation's Commitment to Environmental Justice for All

Executive Order 12898 (59 FR 7629, February 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States. This action does not have disproportionately high and adverse human health or environmental effects on minority populations, low-income populations, or indigenous peoples, as specified in Executive Order 12898. The EPA has determined that the 2026 MSGP will not have disproportionately high and adverse human health or environmental effects on minority or low-income populations because the requirements in the permit apply equally to industrial facilities in areas where the EPA is the permitting authority, and the provisions increase the level of environmental protection for all affected populations.

In addition, as part of electronic reporting under the MSGP, permittees submit data including information on their industrial sector/subsectors, discharge monitoring results, receiving water information, facility location, activities, and discharge points. The Agency continues to expand its use of existing data and enhance collection and analysis efforts. These data and analyses can be used to generate graphics and visual aids to assist with identifying patterns and relationships within data, improve understanding, and support data driven decision making.

Utilizing data visualization tools will help the EPA implement the Principals for Addressing Justice and Equity as outlined in the NPDES Program Policy Guidance on Addressing Environmental Justice and Equity in NPDES Permitting (January 2024). These tools will enable the Agency to enhance public involvement in the permitting process by improving transparency for members of the public as well as stakeholders. Data visualization tools will be used to map industrial stormwater discharge locations and analyze discharge data. Analyses will look to improve available information regarding these discharges and factors such as: demographic data indicating vulnerabilities in the potentially affected community, existing environmental data relevant to the environmental justice concern, including surface water quality monitoring, and existing public health data about the potentially affected community.

The EPA also plans to incorporate data from additional sources such as EJScreen, FEMA, and other program offices to gain a better understanding of the broader impacts that communities may be facing. With this improved understanding, the Agency will continue to look for opportunities to adapt future permit conditions to mitigate identified water quality concerns and other disproportionate environmental impacts as appropriate.

D. Executive Order 13175: Consultation and Coordination With Indian Tribal Governments

This action does not have Tribal implications as specified in Executive Order 13175. It will neither impose substantial direct compliance costs on federally recognized Tribal governments, nor preempt Tribal law. The EPA directly implements the NPDES Program, including the 2026 MSGP when finalized, in Indian country (except in Maine); therefore, in compliance with the EPA Policy on Consultation and Coordination with Indian Tribes, the Agency consulted with Tribal officials early in the process to provide Tribes an opportunity to provide meaningful and timely input into the development of the proposed permit. To gain an understanding of, and where necessary, to address the Tribal implication of the proposed permit, the EPA conducted the following activities:

• August 29, 2024—The EPA emailed notification letters to Tribal leaders initiating consultation and coordination on the proposed 2026 MSGP. The initiation letter was also posted on the EPA's Tribal Consultation Opportunities Tracking System (TCOTS) at https://tcots.epa.gov/.

• September 18 and September 19, 2024—The EPA held two informational webinars open to all Tribal representatives and reserved the last part of each webinar for official consultation comments. Eight Tribal representatives participated in the webinars. The presentation was posted on the Tribal portal website at http://tcots.epa.gov.

The EPA received no comments from Tribes and Tribal organizations during the consultation and coordination period, including two requests for government-to-government consultations, which took place on October 22, 2024, and November 5, 2024. Records of the Tribal informational webinar and a consultation summary are included in the docket for this proposed action (Docket ID No. EPA-HQ-OW-2024-0481). EPA will provide email notification to Tribes of the proposed permit and invite those interested to submit comments during the public comment period. The EPA also notes that as part of the finalization of this proposed permit, it will complete the section 401 certification procedures with all applicable Tribes where the proposed 2026 MSGP will apply (see Appendix C of the proposed permit).

Authority: Clean Water Act, 33 U.S.C. 1251 et seq.

David Cash,
Regional Administrator, EPA Region 1.
Javier Laureano Perez,
Director, Water Division, EPA Region 2.
Carmen Guerrero Perez,
Director, Caribbean Environmental Protection Division, EPA Region 2.
Michelle Price-Fay,
Director, Water Division, EPA Region 3.
Kathlene Butler,
Director, Water Division, EPA Region 4.
Tera Fong,
Director, Water Division, EPA Region 5.
Troy Hill,
Director, Water Division, EPA Region 6.
Jeffrey Robichaud,
Director, Water Division, EPA Region 7.
Stephanie DeJong,
Manager, Clean Water Branch, EPA Region 8.
Tomas Torres,
Director, Water Division, EPA Region 9.
Mathew Martinson,
Director, Water Division, EPA Region 10.

[FR Doc. 2024-29402 Filed 12-12-24; 8:45 am]

BILLING CODE 6560-50-P